COMMITTEE FOR THE IMPLEMENTATION OF TEXTILE AGREEMENTS

Adjustment of Import Limits for Certain Cotton, Wool and Man-Made Fiber Textiles and Textile Products Produced or Manufactured in Indonesia

April 22, 2003.

AGENCY: Committee for the Implementation of Textile Agreements (CITA).

ACTION: Issuing a directive to the Commissioner, Bureau of Customs and Border Protection.

EFFECTIVE DATE: April 28, 2003.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for carryforward used, swing, special shift and the adjustment allowed to certain apparel categories for traditional folklore products made of hand-loomed fabric.

A description of the textile and apparel categories in terms of HTS numbers is available in the CORRELATION: Textile and Apparel Categories with the Harmonized Tariff Schedule of the United States (see Federal Register notice 68 FR 1599, published on January 13, 2003). Also see 67 FR 63627, published on October 15, 2002.

D. Michael Hutchinson,
Acting Chairman, Committee for the Implementation of Textile Agreements.

Committee for the Implementation of Textile Agreements

April 22, 2003.

Commissioner,

Bureau of Customs and Border Protection, Washington, DC 20229.

Dear Commissioner: This directive amends, but does not cancel, the directive issued to you on October 8, 2002, by the Chairman, Committee for the Implementation of Textile Agreements. That directive concerns imports of certain cotton, wool, man-made fiber, silk blend and other vegetable fiber textiles and textile products, produced or manufactured in Indonesia and exported during the twelve-month period which began on January 1, 2003 and extends through December 31, 2003.

Effective on April 28, 2003, you are directed to adjust the limits for the categories listed below, as provided for under the Uruguay Round Agreement on Textiles and Clothing:

Category | Twelve-month restraint limit ¹
Levels in Group I |
219 | 14,644,198 square meters.
313-O ² | 28,310,118 square meters.
314-O ³ | 88,292,290 square meters.
315-O ⁴ | 35,870,611 square meters.
317-O ⁵/617/326-O ⁶ | 30,793,601 square meters of which not more than 6,072,930 square meters shall be in Category 326-O.
334/335 | 377,330 dozen.
336/636 | 1,081,993 dozen.
338/339 | 1,120,093 dozen.
340/640 | 2,443,874 dozen.
341 | 1,618,606 dozen.
342/642 | 612,970 dozen.
345 | 715,692 dozen.
347/348 | 2,950,087 dozen.
351/651 | 796,860 dozen.
359-S/659-S ⁷ | 2,461,151 kilograms.
433 | 12,338 dozen.
443 | 91,534 numbers.
447 | 19,397 dozen.
448 | 23,883 dozen.
611-O ⁸ | 4,886,642 square meters.
613/614/615 | 33,987,416 square meters.
618-O ⁹ | 7,200,572 square meters.
625/626/627/628/629-O ¹⁰ | 42,162,898 square meters.
634/635 | 490,376 dozen.
638/639 | 2,789,177 dozen.
641 | 3,858,707 dozen.
644 | 727,932 numbers.
647/648 | 5,092,740 dozen.
¹ The limits have not been adjusted to account for any imports exported after December 31, 2002.
² Category 313-O: all HTS numbers except 5208.52.3035, 5208.52.4035 and 5209.51.6032.
³ Category 314-O: all HTS numbers except 5209.51.6015.
⁴ Category 315-O: all HTS numbers except 5208.52.4055.
⁵ Category 317-O: all HTS numbers except 5208.59.2085.
⁶ Category 326-O: all HTS numbers except 5208.59.2015, 5209.59.0015 and 5211.59.0015.
⁷ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁸ Category 611-O: all HTS numbers except 5516.14.0005, 5516.14.0025 and 5516.14.0085.
⁹ Category 618-O: all HTS numbers except 5408.24.9010 and 5408.24.9040.
¹⁰ Category 625/626/627/628; Category 629-O: all HTS numbers except 5408.34.9085 and 5516.24.0085.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 03-10361 Filed 4-25-03; 8:45 am]

BILLING CODE 3510-DR-S